ENVIRONMENTAL PROTECTION AGENCY

40 CFR Part 52

[MO 0129-1129; FRL-6989-6]

Approval and Promulgation of Air Quality Implementation Plans; Missouri; Withdrawal of Direct Final Rule

AGENCY: Environmental Protection Agency (EPA).

ACTION: Withdrawal of direct final rule.

SUMMARY: On April 6, 2001 (66 FR 18198), EPA published a direct final approval of a revision to the Missouri State Implementation Plan (SIP) which pertained to the Missouri construction permitting rule. The direct final action was published without prior proposal because EPA anticipated no adverse comment. EPA stated in the direct final rule that if EPA received adverse comment by May 7, 2001, EPA would publish a timely withdrawal in the Federal Register. EPA subsequently received adverse comments on the direct final rule. Therefore, EPA is withdrawing the direct final approval. EPA will address the comments in a subsequent final action based on the parallel proposal also published on April 6, 2001 (66 FR 18223). As stated in the parallel proposal, EPA will not institute a second comment period on this action.

EFFECTIVE DATE: The direct final rule published on April 6, 2001, is withdrawn as of June 1, 2001.

FOR FURTHER INFORMATION CONTACT: Wayne Kaiser at (913) 551-7603.

List of Subjects in 40 CFR Part 52

Environmental protection, Air pollution control, Intergovernmental relations, Ozone, Particulate matter, Reporting and recordkeeping requirements.

Dated: May 23, 2001.
Nat Scurry,
Acting Regional Administrator, Region 7.

Accordingly, the revision to 40 CFR 52. 1320, published in the Federal Register April 6, 2001 (66 FR 18198), which was to become effective June 5, 2001, is withdrawn.

[FR Doc. 01-13775 Filed 5-31-01; 8:45 am]

BILLING CODE 6560-50-P